DEPARTMENT OF TRANSPORTATION

Federal Aviation Administration

[Docket No.: FAA-2021-0915; Summary Notice No. 2022-09]

Petition for Exemption; Summary of Petition Received; Kiwi Technologies, Inc. d/b/a Guardian Agriculture

AGENCY: Federal Aviation Administration (FAA), Department of Transportation (DOT).

ACTION: Notice.

SUMMARY: This notice contains a summary of a petition seeking relief from specified requirements of Federal Aviation Regulations. The purpose of this notice is to improve the public's awareness of, and participation in, the FAA's exemption process. Neither publication of this notice nor the inclusion nor omission of information in the summary is intended to affect the legal status of the petition or its final disposition.

DATES: Comments on this petition must identify the petition docket number and must be received on or before March 8, 2022.

ADDRESSES: Send comments identified by docket number [FAA-2021-0915] using any of the following methods:

• Federal eRulemaking Portal: Go to http://www.regulations.gov and follow the online instructions for sending your comments electronically.

• Mail: Send comments to Docket Operations, M-30; U.S. Department of Transportation, 1200 New Jersey Avenue SE, Room W12-140, West Building Ground Floor, Washington, DC 20590-0001.

• Hand Delivery or Courier: Take comments to Docket Operations in Room W12-140 of the West Building Ground Floor at 1200 New Jersey Avenue SE, Washington, DC 20590-0001, between 9 a.m. and 5 p.m., Monday through Friday, except Federal holidays.

• Fax: Fax comments to Docket Operations at (202) 493-2251.

Privacy: In accordance with 5 U.S.C. 553(c), DOT solicits comments from the public to better inform its rulemaking process. DOT posts these comments, without edit, including any personal information the commenter provides, to http://www.regulations.gov, as described in the system of records notice (DOT/ALL-14 FDMS), which can be reviewed at http://www.dot.gov/privacy.

Docket: Background documents or comments received may be read at http://www.regulations.gov at any time. Follow the online instructions for accessing the docket or go to the Docket Operations in Room W12-140 of the West Building Ground Floor at 1200 New Jersey Avenue SE, Washington, DC 20590-0001, between 9 a.m. and 5 p.m., Monday through Friday, except Federal holidays.

FOR FURTHER INFORMATION CONTACT: Jake Troutman, (202) 683-7788, Office of Rulemaking, Federal Aviation Administration, 800 Independence Avenue SW, Washington, DC 20591.

This notice is published pursuant to 14 CFR 11.85.

Timothy R. Adams,
Deputy Executive Director, Office of Rulemaking.

Petition for Exemption

Docket No.: FAA-2021-0915.

Petitioner: Kiwi Technologies, Inc. d/b/a Guardian Agriculture.

Section(s) of 14 CFR Affected: §§ 61.3(a)(1)(i), 91.119(c), 91.121, 91.151(b), 91.405(a), 91.407(a)(1), 91.409(a)(1) & (2), 91.417(a) & (b).

Description of Relief Sought: Kiwi Technologies, Inc. d/b/a Guardian Agriculture (Guardian Agriculture) seeks relief to operate the Guardian Agriculture MOE, an electric quad motor rotorcraft unmanned aircraft system (UAS) with a maximum takeoff weight of 454 pounds. The purpose of the operations is to conduct research and development and crew training in accordance with 14 CFR 21.191(a) and 21.191(c) for type certification. To be eligible for a type certificate, Guardian Agriculture must show, and the Federal Aviation Administration (FAA) must find, that the type design complies with the certification basis. In addition, the FAA must determine that no feature or characteristic of the aircraft makes it unsafe for the category in which certification is requested. The visual line of sight operations include: Likely Failure and Specific Demonstration Testing (LF/SD), Familiarization Flight (FAM), Operational Suitability Evaluations (OSE) and noise testing under the observation of FAA representatives; and durability and reliability (D&R) testing in accordance with the FAA-approved Test Plan. These operations will occur at Griffiss UAS Test Site in New York. The UAS will be operating with a special airworthiness certificate in the experimental category and a civil Certificate of Waiver or Authorization.

[FR Doc. 2022-03357 Filed 2-15-22; 8:45 am]

BILLING CODE 4910-13-P